DEPARTMENT OF AGRICULTURE

Animal and Plant Health Inspection Service

[Docket No. APHIS-2019-0054]

Import Requirements for the Importation of Fresh Unshu Oranges From Japan Into the United States

AGENCY: Animal and Plant Health Inspection Service, USDA.

ACTION: Notice.

SUMMARY: We are advising the public that we have prepared commodity import evaluation documents (CIEDs) relative to the importation into the United States of Unshu oranges from Japan. Currently, Unshu oranges imported into the United States from the islands of Shikoku or Honshu must be fumigated with methyl bromide as a mitigation for mites and mealybugs if the oranges are destined to a port of entry in Arizona, California, Florida, Hawaii, Louisiana, or Texas. Additionally, Unshu oranges from the island of Kyushu are prohibited entry into Arizona, California, Florida, Hawaii, or Texas. Based on the findings of the CIEDs, we are proposing to remove the fumigation requirement for Unshu oranges from the islands of Honshu and Shikoku and to allow Unshu oranges from the island of Kyushu to be imported into any port of entry in the United States (excluding territories). We are making the CIEDs available to the public for review and comment.

DATES: We will consider all comments that we receive on or before November 22, 2019.

ADDRESSES: You may submit comments by either of the following methods:

• Federal eRulemaking Portal: Go to http://www.regulations.gov/#!docketDetail;D=APHIS-2019-0054.

• Postal Mail/Commercial Delivery: Send your comment to Docket No. APHIS-2019-0054, Regulatory Analysis and Development, PPD, APHIS, Station 3A-03.8, 4700 River Road Unit 118, Riverdale, MD 20737-1238.

Supporting documents and any comments we receive on this docket may be viewed at http://www.regulations.gov/#!docketDetail;D=APHIS-2019-0054 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Tony Roman, Senior Regulatory Policy Specialist, RCC, IRM, PHP, PPQ, APHIS, 4700 River Road Unit 133, Riverdale, MD 20737-1236; (301) 851-2242.

SUPPLEMENTARY INFORMATION:

Background

Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the importation of fruits and vegetables into the United States, as well as revising existing requirements for the importation of fruits and vegetables. Paragraph (c) of that section provides that the name and origin of all fruits and vegetables authorized importation into the United States, as well as the requirements for their importation, are listed on the internet in APHIS' Fruits and Vegetables Import Requirements database (FAVIR) (https://epermits.aphis.usda.gov/manual/). It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

Currently, Unshu oranges from Japan are listed in FAVIR as a fruit authorized importation into the United States, if they are produced on the islands of Honshu, Shikoku, or Kyushu.

As general requirements, regardless of the island of Japan where the Unshu oranges were produced:

• The oranges must be commercial consignments.

• Each consignment must be accompanied by a phytosanitary certificate with an additional declaration that the oranges were packed and produced in accordance with the regulations.

• Each consignment must be free of leaves, twigs, and other plant parts, except for stems that are less than 1 inch long and attached to the fruit.

• Shipments are prohibited entry into any U.S. territory.

• Each shipment is subject to inspection at the port of entry into the United States.

• Each shipment must be imported under an import permit issued by APHIS.

Additionally, if the oranges are from the islands of Honshu or Shikoku and are destined to a port of entry in Arizona, California, Florida, Hawaii, Louisiana, or Texas, the oranges must be fumigated with methyl bromide as a mitigation for two species of mites (Eotetranychus asiaticus and Eotetranychus kankitus) and three species of mealybug (Planococcus lilacinus, Planococcus kraunhiae, and Pseudococcus cryptus). If the oranges are from the island of Kyushu, they are prohibited from being imported into Arizona, California, Florida, Hawaii, or Texas, as a mitigation for the fruit fly Bactrocera tsuneonis.

The national plant protection organization (NPPO) of Japan asked that APHIS remove the methyl bromide fumigation requirement for Unshu oranges imported into the United States from the islands of Honshu or Shikoku, on the grounds that the pests the treatment targets are surface feeders and can easily be detected during phytosanitary inspection of the oranges. The NPPO also provided trapping data indicating that B. tsuneonis has not been detected on the island of Kyushu since 2016, and requesting that we allow Unshu oranges from that island into all ports of entry in the United States (excluding territories).

In response to these requests, we have prepared two commodity import evaluation documents (CIEDs). One of the CIEDs recommends that Unshu oranges produced on the islands of Honshu or Shikoku do not need to be fumigated with methyl bromide; the other recommends allowing oranges from the island of Kyushu to be imported into all ports of entry in the United States (excluding territories).

Therefore, in accordance with § 319.56-4(c)(3), we are announcing the availability of our CIEDs for public review and comment. These documents, as well as a description of the economic considerations associated with removing the methyl bromide requirement for Unshu oranges from the islands of Honshu and Shikoku and with allowing Unshu oranges from the island of Kyushu to be imported into all ports of entry in the United States (excluding territories), may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding whether to revise the requirements for the importation of Unshu oranges from Japan in a subsequent notice. If the overall conclusions of our analysis and the Administrator's determination of risk remain unchanged following our consideration of the comments, then we will revise the requirements for the importation of Unshu oranges from Japan as described in this notice.

Authority: 7 U.S.C. 1633, 7701-7772, and 7781-7786; 21 U.S.C. 136 and 136a; 7 CFR 2.22, 2.80, and 371.3.

Done in Washington, DC, this 17th day of September 2019.
Kevin Shea,
Administrator, Animal and Plant Health Inspection Service.

[FR Doc. 2019-20531 Filed 9-20-19; 8:45 am]

BILLING CODE 3410-34-P